DEPARTMENT OF AGRICULTURE

Submission for OMB Review; Comment Request

October 27, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by December 1, 2014 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Agricultural Research Service

Title: SNAP-Ed Connection Recipe Submission and Review Forms.

OMB Control Number: 0518-0043.

Summary of Collection: The National Agricultural Library's SNAP-Ed Connection (formerly the Food Stamp Nutrition Connection), contained an online recipe database called the Recipe Finder. The purpose of the Recipe Finder database is to provide the Supplemental Nutrition Assistance Program Education (SNAP-ED) providers with low-cost, easy to prepare, and healthy recipes for SNAP Nutrition Education purposes. The recipe database is now being combined with recipes from other USDA Food, Nutrition and Consumer Services programs such as the Food Distribution Programs (Food Distribution Program on Indian Reservations, Commodity Supplemental Food Program, and The Emergency Food Assistance Program), Child Nutrition Programs, and the Center for Nutrition Policy and Promotion. The unified database will provide a central location for recipe users to search for healthy recipes that support the Dietary Guidelines for Americans. The recipes will benefit participants in USDA food assistance programs, consumers, SNAP-Ed personnel, State Agency staff, school nutrition personnel, and the private sector.

Need and Use of the Information: The voluntary “SNAP-Ed Connection Recipe Submission Form” allows SNAP-Ed providers the opportunity to submit recipes on-line and saves contributors time and money in photocopying and mailing/faxing recipes. SNAP-ED staff reviews submissions to determine for appropriateness and eligibility for inclusion into the Recipe database. The “SNAP-Ed Connection Recipe Submission and Review Form” allows SNAP-Ed providers and other recipe users the opportunity to share their feedback about recipes. Recipe users benefit from reading the comments of others for personal and educational purposes. If the information is not collected, it may inhibit the ease with which SNAP-Ed providers could respond and share feedback, decreasing the integrity of the project.

Description of Respondents: Individual or households; Not-for Profit Institutions; State, Local or Tribal Government.

Number of Respondents: 3,670.

Frequency of Responses: Reporting: On occasion.

Total Burden Hours: 1,269.

Ruth Brown,
Departmental Information Collection Clearance Officer.

[FR Doc. 2014-25889 Filed 10-30-14; 8:45 am]

BILLING CODE 3410-03-P